DEPARTMENT OF AGRICULTURE

Forest Service

Region 5 and Region 6; California, Oregon, and Washington; Forest Plan Amendment for Planning and Management of Northwest Forests Within the Range of the Northern Spotted Owl

Correction

In notice document 2023-27742 beginning on page 87393 in the issue of Monday, December 18, 2023, make the following correction:

On page 87393, in the second column, in the third and fourth lines from the bottom, “January 29, 2024” should read “February 1, 2024”.

[FR Doc. C1-2023-27742 Filed 12-29-23; 8:45 am]

BILLING CODE 0099-10-P